ENVIRONMENTAL PROTECTION AGENCY

[FRL-9456-8; Docket ID No. EPA-HQ-ORD-2011-0425]

Draft Toxicological Review of Libby Amphibole Asbestos: In Support of the Summary Information on the Integrated Risk Information System (IRIS)

AGENCY: Environmental Protection Agency (EPA).

ACTION: Notice of public comment period and listening session.

SUMMARY: EPA is announcing a 60-day public comment period and a public listening session for the external review draft human health assessment titled “Toxicological Review of Libby Amphibole Asbestos: In Support of Summary Information on the Integrated Risk Information System (IRIS)” (EPA/635/R-11/002A). The draft assessment was prepared by staff in both EPA's Region 8 Office (Colorado, Montana, North Dakota, South Dakota, Utah, Wyoming, and 27 tribal nations), and the National Center for Environmental Assessment (NCEA) within the EPA Office of Research and Development (ORD). EPA is releasing the draft assessment for the purposes of public comment and peer review. This draft assessment is not final as described in EPA's Information Quality Guidelines, and it does not represent and should not be construed to represent Agency policy or views. When finalizing the draft document, EPA intends to consider any public comments that EPA receives in accordance with this notice. The public comments submitted in accordance with this notice will be made available to the peer review panel.

The draft document is also being provided to EPA's Science Advisory Board (SAB), a body established under the Federal Advisory Committee Act, for independent external peer review. The public comment period and the EPA Science Advisory Board (SAB) peer-review, which will be scheduled at a later date and announced in the Federal Register, are separate processes that provide opportunities for all interested parties to comment on the document.

EPA is also announcing a listening session to be held on October 6, 2011 during the public comment period for this draft assessment. The purpose of the listening session is to allow all interested parties to present scientific and technical comments on draft IRIS health assessments to EPA and other interested parties attending the listening session. EPA welcomes the scientific and technical comments that will be provided to the Agency by the listening session participants. The comments will be considered by the Agency as it revises the draft assessment after the independent external peer review. If listening session participants would like EPA to share their comments with the external peer reviewers, they should also submit written comments during the public comment period using the detailed and established procedures described in the SUPPLEMENTARY INFORMATION section of this notice.

DATES: The public comment period begins August 25, 2011, and ends October 24, 2011. Technical comments should be in writing and must be received by EPA by October 24, 2011.

The listening session on the draft IRIS health assessment for Libby Amphibole Asbestos will be held in Arlington, VA, on October 6, 2011, beginning at 1 p.m. and ending at 5 p.m., Eastern Daylight Time, or when the last presentation has been completed. If you would like to make a presentation at the listening session, you should register by September 29, 2011. To attend the listening session, register by September 29, 2011, by sending an e-mail to IRISListeningSession@epa.gov (subject line: Libby Amphibole Asbestos Listening Session); by calling Christine Ross at 703-347-8592; or by faxing a registration request to 703-347-8689. Please reference the “Libby Amphibole Asbestos Listening Session” and include your name, title, affiliation, full address, and contact information. To present at the listening session, indicate in your registration that you would like to make oral comments at the session and provide the length of your presentation. When you register, please indicate if you will need audio-visual aid (e.g., laptop and slide projector). In general, each presentation should be no more than 30 minutes. If, however, there are more requests for presentations than the allotted time allows, then the time limit for each presentation will be adjusted. A copy of the agenda for the listening session will be available at the meeting. If no speakers have registered by September 29, 2011, the listening session will be cancelled and EPA will notify those registered of the cancellation.

Listening session participants who would like EPA to share their comments with the external peer reviewers should also submit written comments to the docket during the public comment period using the detailed and established procedures described in the SUPPLEMENTARY INFORMATION section of this notice. Comments submitted to the docket prior to the end of the public comment period will be considered by EPA in the disposition of public comments. Additionally, these comments will be made available to the SAB external peer reviewers. All comments must be submitted to the docket. Comments received after the public comment period closes will not be submitted to the external peer reviewers.

ADDRESSES: The draft “Toxicological Review of Libby Amphibole Asbestos: In Support of Summary Information on the Integrated Risk Information System (IRIS)” is available primarily via the Internet on the NCEA home page under the Recent Additions and Publications menus at http://www.epa.gov/ncea. A limited number of paper copies are available from the Information Management Team, NCEA; telephone: 703-347-8561; facsimile: 703-347-8691. If you are requesting a paper copy, please provide your name, mailing address, and the document title.

Comments may be submitted electronically via http://www.regulations.gov, by mail, by facsimile, or by hand delivery/courier. Please follow the detailed instructions as provided in the SUPPLEMENTARY INFORMATION section of this notice.

The listening session on the draft Libby Amphibole Asbestos assessment will be held at the EPA offices at Two Potomac Yard (North Building), 7th Floor, Room 7100, 2733 South Crystal Drive, Arlington, Virginia 22202. Please note that to gain entrance to this EPA building to attend the meeting, attendees must have photo identification with them and must register at the guard's desk in the lobby. The guard will retain your photo identification and will provide you with a visitor's badge. At the guard's desk, attendees should give the name Christine Ross and the telephone number, 703-347-8592, to the guard on duty. The guard will contact Ms. Ross who will meet you in the reception area to escort you to the meeting room. When you leave the building, please return your visitor's badge to the guard and you will receive your photo identification.

A teleconference line will also be available for registered attendees/speakers. The teleconference number is 866-299-3188 and the access code is 926-378-7897, followed by the pound sign (#). The teleconference line will be activated at 12:45 p.m, and you will be asked to identify yourself and your affiliation at the beginning of the call.

Information on Services for Individuals with Disabilities: EPA welcomes public attendance at the Libby Amphibole Asbestos Listening Session and will make every effort to accommodate persons with disabilities. For information on access or services for individuals with disabilities, please contact Christine Ross at 703-347-8592 or IRISListeningSession@epa.gov. To request accommodation of a disability, please contact Ms. Ross, preferably at least 10 days prior to the meeting, to give EPA as much time as possible to process your request.

FOR FURTHER INFORMATION CONTACT: For information on the federal docket, contact the Office of Environmental Information Docket; telephone: 202-566-1752; facsimile: 202-566-1753; or e-mail: ORD.Docket@epa.gov.

For information on the public listening session, please contact Christine Ross, IRIS Staff, National Center for Environmental Assessment, (Mail Code: 8601P), U.S. Environmental Protection Agency, 1200 Pennsylvania Avenue, NW., Washington, DC 20460; telephone: 703-347-8592; facsimile: 703-347-8689; or e-mail: IRISListeningSession@epa.gov.

If you have questions about the document, contact Danielle DeVoney, National Center for Environmental Assessment (NCEA, Mail Code: 8623P), U.S. Environmental Protection Agency, Washington, DC 20460; telephone: (703) 347-8558; facsimile: 703-347-8693; or e-mail: FRNQuestions@epa.gov.

SUPPLEMENTARY INFORMATION:

I. Information About IRIS

EPA's Integrated Risk Information System (IRIS) provides information about over 540 chemicals to which the public may be exposed from releases to air, water, and land and through the use and disposal of chemicals. IRIS assessments provide a scientific foundation for decisions to protect public health across EPA's programs and regions under an array of environmental laws. The IRIS database is publicly available online at http://www.epa.gov/iris and is used by state and local governments, environmental specialists, healthcare professionals, and international institutions to characterize the potential health effects of contaminant exposure. Over the past 2 years, EPA has strengthened and streamlined the IRIS program, improving transparency and increasing the number of final assessments added to the database. Continually improving the IRIS program is an ongoing priority for the Agency.

II. How To Submit Technical Comments to the Docket at http://www.regulations.gov

Submit your comments, identified by Docket ID No. EPA-HQ-ORD-2011-0425 by one of the following methods:

• http://www.regulations.gov: Follow the on-line instructions for submitting comments;

• E-mail: ORD.Docket@epa.gov;

• Fax: 202-566-1753;

• Mail: Office of Environmental Information (OEI) Docket (Mail Code: 2822T), U.S. Environmental Protection Agency, 1200 Pennsylvania Avenue, NW., Washington, DC 20460. The telephone number is 202-566-1752; and

• Hand Delivery: The OEI Docket is located in the EPA Headquarters Docket Center, EPA West Building, Room 3334, 1301 Constitution Avenue, NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit one unbound original with pages numbered consecutively, and three copies of the comments. For attachments, provide an index, number pages consecutively with the comments, and submit an unbound original and three copies.

Instructions: Direct your comments to Docket ID No. EPA-HQ-ORD-2011-0425. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the OEI Docket in the EPA Headquarters Docket Center.

Dated: August 3, 2011.
Darrell A. Winner,
Acting Director, National Center for Environmental Assessment.

[FR Doc. 2011-21722 Filed 8-24-11; 8:45 am]

BILLING CODE 6560-50-P